DEPARTMENT OF COMMERCE

Economic Development Administration

Notice of Petitions by Firms for Determination of Eligibility To Apply for Trade Adjustment Assistance

AGENCY: Economic Development Administration, U.S. Department of Commerce.

ACTION: Notice and opportunity for public comment.

SUMMARY: The Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

SUPPLEMENTARY INFORMATION:

List of Petitions Received by EDA for Certification of Eligibility To Apply for Trade Adjustment Assistance
[9/20/2017 through 9/30/2017]
Firm name | Firm address | Date accepted for investigation | Product(s)
Solmet Technologies, Inc | 2716 Shepler Church Avenue SW., Canton, OH 44706 | 9/20/2017 | The firm manufactures large steel forgings, primarily for boring and sinking machinery.
I.G. Marston Co., Inc | 8 Mear Road, Holbrook, MA 02343 | 9/28/2017 | The firm manufactures custom, non-metallic components such as washers, gaskets, seals, tags, insulators, and discs made of plastic, rubber, neoprene, nylon, and many other non-metallic materials.
Micromatic Spring and Stamping Co., Inc | 45 North Church Street, Addison, IL 60101 | 9/28/2017 | The firm manufactures springs, stampings, and wire forms made of iron or steel wire.
Development Associates, Inc | 300 Old Baptist Road, North Kingstown, RI 02852 | 9/29/2017 | The firm manufactures two-part polyurethane resins (clear polyurethane resin which is auto-grade, non-yellowing, UV-stable, and mercury-free; clear polyurethane coating; clear urethane resin; urethane adhesive; epoxy primer; and wire and cable coating) for many applications.
Automatic Machine Products Co | 400 Constitution Drive, Taunton, MA 02780 | 9/29/2017 | The firm manufactures refrigeration and air-conditioning safety, pressure, and complete shut-off valves and related assemblies, fittings, and components, all of steel and brass.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice. These petitions are received pursuant to section 251 of the Trade Act 1974, as amended.

Please follow the requirements set forth in EDA's regulations at 13 CFR 315.9 for procedures to request a public hearing. The Catalog of Federal Domestic Assistance official number and title for the program under which these petitions are submitted is 11.313, Trade Adjustment Assistance for Firms.

Irette Patterson,
Program Analyst.

[FR Doc. 2017-21656 Filed 10-6-17; 8:45 am]

BILLING CODE 3510-WH-P